DEPARTMENT OF COMMERCE

Foreign-Trade Zones Board

[Docket 14-2011]

Foreign-Trade Zone 158—Vicksburg/Jackson, MS, Application for Expansion of Manufacturing Authority, Subzone 158D, Nissan North America, Inc. (Motor Vehicles)

An application has been submitted to the Foreign-Trade Zones Board (the Board) by Nissan North America, Inc. (NNA), operator of FTZ 158D, NNA plant, Canton, Mississippi, requesting authority to expand the scope of FTZ manufacturing authority. The application was submitted pursuant to the provisions of the Foreign-Trade Zones Act, as amended (19 U.S.C. 81a-81u), and section 400.28(a)(2) of the Board's regulations (15 CFR part 400). It was formally filed on February 22, 2011.

Subzone 158D was approved by the Board in 2002 with authority granted for the manufacture of up to 250,000 light-duty passenger vehicles at the NNA plant (4,417 employees/1,350 acres) located at 300 Nissan Drive in Canton, Mississippi (Board Order 1212, 67 FR 11091, 3-12-2002). In 2005 the Board approved an expansion of NNA's scope of authority to include additional production capacity (authorized level of production increased to 400,000 vehicles annually) (Board Order 1367, 70 FR 6616, 2-8-2005). Components and materials sourced from abroad (representing 20 percent of the finished vehicles' value) that are currently within NNA's existing scope of authority include: gasoline and diesel engines and parts of such engines, labels, body parts and trim, fasteners, catalytic converters, parts of steering systems, brake fittings, half shafts, transmissions and parts thereof, differentials, bearings and bearing housings, flywheels/pulleys, wiring harnesses, handles/knobs, gaskets, fasteners, windshields and windows, springs, relays, and switches (duty rate range: free—8.6%).

The applicant now seeks to expand the scope of authority to include light commercial passenger vans as an additional finished product to be manufactured under FTZ procedures. The applicant also requests that the scope of authority be expanded to include the following additional foreign-origin components: hoses, fan belts, caps/lids, floor mats, mirrors, locks, tool sets, reservoir tanks, fans, air-conditioner components, filters, valves, thermostats, door roller assemblies, windshield wiper assemblies, batteries, electrical components, lighting/signaling equipment, horns, sensors, telephonic equipment, audio speakers, audio systems, video cameras, navigation systems, antennas, cables, connectors, brake parts, shock absorbers, radiators, exhaust components, speedometers, tachometers, electronic controllers, seats, and cigarette lighter cases (duty rate range: free—12.0%). The application also requests approval from the FTZ Board for flexibility to shift production between Subzone 158D and Subzone 78A (NNA's facilities in Smyrna and Decherd, Tennessee) as needed, provided that NNA's activity globally at the two subzones remains consistent with the products, components and production capacity authorized for Subzone 158D and Subzone 78A.

Expanded FTZ procedures could continue to exempt NNA from customs duty payments on the foreign-origin components used in light commercial passenger vans manufactured for export (20% of shipments). On its domestic shipments, NNA would be able to choose the duty rate during customs entry procedures that applies to light commercial passenger vans (duty rate—2.0%) for the foreign inputs noted above. Subzone status would further allow NNA to realize logistical benefits through the use of weekly customs entry procedures. Customs duties also could possibly be deferred or reduced on foreign status production equipment. NNA would also be exempt from duty payments on foreign inputs that become scrap during the production process.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is May 2, 2011. Rebuttal comments in response to material submitted during the foregoing period may be submitted during the subsequent 15-day period to May 16, 2011.

A copy of the application will be available for public inspection at the Office of the Foreign-Trade Zones Board's Executive Secretary at the address listed above and in the “Reading Room” section of the Board's Web site, which is accessible via http://www.trade.gov/ftz.

For further information, contact Pierre Duy at Pierre.Duy@trade.gov or (202) 482-1378.

Dated: February 22, 2011.
Andrew McGilvray,
Executive Secretary.

[FR Doc. 2011-4510 Filed 2-28-11; 8:45 am]

BILLING CODE P